DEPARTMENT OF HEALTH AND HUMAN SERVICES

National Institutes of Health

National Institute of Environmental Health Sciences; Amended Notice of Meeting

Notice is hereby given of a change in the meeting of the National Institute of Environmental Health Sciences Special Emphasis Panel, May 2, 2019, 8:30 a.m. until 12:00 p.m. and May 2, 2019, 12:30 p.m. until 2:45 p.m., Hilton Garden Inn Durham,7007 Fayetteville Road, Durham, NC, 27713 which was published in the Federal Register on February 15, 2019, 84 FR 32, page 4490.

This meeting is being amended to change the date from May 2, 2019 to May 16, 2019. The times and location remain the same. This meeting is closed to the public.

Dated: March 8, 2019.
Natasha M. Copeland,
Program Analyst, Office of Federal Advisory Committee Policy.

[FR Doc. 2019-04665 Filed 3-13-19; 8:45 am]

BILLING CODE 4140-01-P